DEPARTMENT OF ENERGY

Federal Energy Regulatory Commission

[Docket No. RP00-221-000]

CNG Transmission Corporation; Notice of Proposed Changes in FERC Gas Tariff

March 27, 2000.

Take notice that on March 22, 2000, CNG Transmission Corporation (“CNG”) tendered for filing as part of its FERC Gas Tariff, First Revised Volume No. 1A, the tariff sheets listed on Attachment A to the filing. CNG requests an effective date of April 1, 2000 for its proposed tariff sheets.

CNG states that the purpose of the filing is to modify CNG's FERC Gas Tariff to reflect the reclassification of certain transmission lines to gathering and to correct certain administrative errors. Exhibit A is listing of the reasons for the addition, deletion or correction of the tariff.

CNG states that copies of its letter of transmittal and enclosures are being served upon its customers and to interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-7941 Filed 3-30-00; 8:45 am]

BILLING CODE 6717-01-M